DEPARTMENT OF HEALTH AND HUMAN SERVICES

Centers for Disease Control and Prevention

Multi-Agency Informational Meeting Concerning Compliance With the Import Permit Program; Public Webcast

AGENCY: Centers for Disease Control and Prevention (CDC), Department of Health and Human Services (HHS).

ACTION: Notice of public webcast.

SUMMARY: The Centers for Disease Control and Prevention (CDC) located within the United States Department of Health and Human Services (HHS) announces a public webcast for all individuals who apply for permits to import (1) infectious biological agents, infectious substances, or vectors known to transfer or that are capable of transferring an infectious biological agent to a human; and (2) import items that contain or may contain dangerous agricultural pests and diseases. The purpose of the webcast is to provide guidance related to the import permit program.

DATES: The webcast will be held on Friday, October 24, 2014 from 1 p.m. to 5 p.m. EST. Those wishing to join the webcast must register by October 1, 2014. Registration instructions can be found on the Web site http://www.cdc.gov/od/eaipp/.

ADDRESSES: The webcast will be broadcast from the Centers for Disease Control and Prevention, 1600 Clifton Road NE., Atlanta, Georgia 30329.

FOR FURTHER INFORMATION CONTACT: Von McClee, Division of Select Agents and Toxins, Office of Public Health Preparedness and Response, Centers for Disease Control and Prevention, 1600 Clifton Road NE., MS A-46, Atlanta, GA 30333; phone: 404-718-2000; email: lrsat@cdc.gov.

SUPPLEMENTARY INFORMATION: This webcast is an opportunity for the affected community (i.e., academic institutions and biomedical centers; commercial manufacturing facilities; federal, state, and local laboratories, including clinical and diagnostic laboratories; research facilities; exhibition facilities; and educational facilities) and other interested individuals to obtain specific guidance and information regarding the import permit program. The webcast will also provide assistance to those interested in applying for an import permit.

Representatives from the Department of Transportation, U.S. Department of Agriculture/Animal and Plant Health Inspection Service, and HHS/CDC will be present during the webcast to address questions and concerns from the web participants.

Individuals who want to participate in the webcast must complete their registration online by October 1, 2014. The registration instructions are located on this Web site: http://www.cdc.gov/od/eaipp/. This is a 100% webcast; therefore, no accommodations exist for in-person participation.

Dated: August 8, 2014.
Ron A. Otten,
Acting Deputy Associate Director for Science, Centers for Disease Control and Prevention.

[FR Doc. 2014-19114 Filed 8-12-14; 8:45 am]

BILLING CODE 4163-18-P